DEPARTMENT OF THE INTERIOR

Office of the Secretary

43 CFR Part 39

[1090-AA93]

Administrative Wage Garnishment

AGENCY: Office of the Secretary, Interior.

ACTION: Final rule and request for comments.

SUMMARY: The Department of the Interior (the Department) adopts the authority established under the Debt Collection Improvement Act (DCIA) to use administrative wage garnishment to collect delinquent non-tax debts. The DCIA allows a Federal agency collecting delinquent non-tax debt from an employee of a non-Federal entity to issue a wage garnishment order without first obtaining a court order. In order to establish procedures enabling the Department to use this authority, the Department adopts, without change, the administrative wage garnishment regulations issued by the Department of the Treasury, and designates the Office of Hearings and Appeals to conduct hearings under this authority.

DATES: This rule is effective September 2, 2005. Comments must be received by October 3, 2005.

ADDRESSES: You may submit comments, identified by the number 1090-AA93 by any of the following methods:

—Federal rulemaking portal: http://www.regulations.gov Follow the instruction for submitting comments.

—E-mail: William_Webber@ios.doi.gov Include the number 1084-AA00 in the subject line of the message.

—Fax: (202) 208-6940.

—Mail: William Webber, Focus Leader, Asset and Debt Management, Office of Financial Management, U.S. Department of the Interior, 1849 C Street, NW., Mail Stop 5412 MIB, Washington, DC 20240.

—Hand delivery: Office of Financial Management, U.S. Department of the Interior, 1849 C Street, NW., Room 5412, Washington, DC.

FOR FURTHER INFORMATION CONTACT: William Webber, Focus Leader, Asset and Debt Management, Office of Financial Management, U.S. Department of the Interior, 1849 C Street, NW., Mail Stop 5412 MIB, Washington, DC 20240; (202) 208-5684.

SUPPLEMENTARY INFORMATION: The Department is adding a new part 39 to 43 CFR to implement administrative wage garnishment provisions under section 31001(o) of the Debt Collection Improvement Act of 1966 (DCIA), Public Law 104-134, 110 Stat. 1321-358 (April 25, 1996), codified at 31 U.S.C. 3720D. Under this statute, the Department is adopting the administrative wage garnishment regulation issued by the Department of the Treasury at 31 CFR 285.11. Under the DCIA, a Federal agency that is collecting delinquent non-tax debt may administratively garnish the debtor's wages using a hearing process under the agency's own regulations or in accordance with regulations promulgated by the Secretary of the Treasury, if the agency adopts those regulations by reference. The DCIA allows a Federal agency collecting delinquent non-tax debt from a non-Federal employee to issue a wage garnishment order without first obtaining a court order. Should a debtor submit a written request for a hearing concerning the existence or amount of a debt, the administrative wage garnishment hearing procedures established in Treasury's regulations will be utilized by the Department to provide the debtor an opportunity to contest the garnishment. The Office of Hearings and Appeals will conduct the necessary hearings.

The Department's debt collection program does not require procedures different from those established by the Department of the Treasury, and therefore the Department hereby adopts the Treasury regulation without modifications, except to designate the Offices of Hearing and Appeals to conduct the hearings.

Procedural Matters

Need To Issue a Direct Final Rule

The Department has determined that the public notice and comment provisions of the Administrative Procedure Act, 5 U.S.C. 553(b), do not apply because of the exception under 5 U.S.C. 553(b)(3)(B), which allows the agency to suspend the notice and public procedure when the agency finds for good cause that those requirements are impractical, unnecessary, and contrary to the public interest. Because this rule commits the Department to follow without change an existing regulation of the Department of the Treasury, which has already been the subject of a proposed rule and public comment when promulgated by Treasury, we have determined that publication of a proposed rule and solicitation of comments is not necessary. While we are not required to solicit comments under the Administrative Procedure Act, the Department is soliciting comments to allow further public input regarding these procedures and will consider revising this rule if comments warrant.

Regulatory Flexibility Act

In accordance with the Regulatory Flexibility Act (Pub. L. 96-354, as amended by Pub. L. 104-121), the Department has reviewed this regulation, and by approving it, certifies under 5 U.S.C. 605(b) that this regulation will not have a significant economic impact on a substantial number of small entities. The Department's debt collection activities do not affect a substantial number of small entities. Moreover, as found by the Department of the Treasury, wage garnishment requirements do not have a significant economic impact on small entities. Employers of delinquent debtors must certify certain information about the debtor, such as the debtor's employment status and earnings. This information is contained in the employer's payroll records. Therefore, it will not take a significant amount of time or result in a significant cost for an employer to complete the certification form. Even if an employer is served withholding orders on several employees over the course of a year, the cost imposed on the employer to complete the certification would not have a significant economic impact on that entity. Employers are not required to vary their normal pay cycles in order to comply with a withholding order issued under this rule. For these reasons, a regulatory flexibility analysis is not required.

Executive Order 12866

This rule is not a significant regulatory action as defined in Executive Order 12866 and is therefore not subject to review by the Office of Management and Budget.

Paperwork Reduction Act

This regulation contains no information collection requirements subject to review by the Office of Management and Budget under the Paperwork Reduction Act of 1980 (44 U.S.C. Chapter 35).

List of Subjects in 43 CFR Part 39

Garnishment of wages, Debt collection.

Dated: June 28, 2005.
P. Lynn Scarlett,
Assistant Secretary—Policy, Management and Budget.

For the reasons given in the preamble, Title 43 of the Code of Federal Regulations is amended by adding a new part 39 to read as follows:

PART 39—COLLECTION OF DEBTS BY ADMINISTRATIVE WAGE GARNISHMENT

Sec.
39.1 Procedures for collection of debts by administrative wage garnishment.
39.2 Requests for Hearings.

Authority: 31 U.S.C. 3720D.

§ 39.1 Procedures for collection of debts by administrative wage garnishment.

The Department hereby adopts the administrative wage garnishment rules issued by the Department of the Treasury at 31 CFR 285.11.

§ 39.2 Requests for Hearings.

Any request for a hearing under 31 CFR 285.11 must be filed with the Director, Office of Hearings and Appeals, U.S. Department of the Interior, 801 N. Quincy Street, Suite 300, Arlington, Virginia 22203.

[FR Doc. 05-15258 Filed 8-2-05; 8:45 am]

BILLING CODE 4310-RK-M